DEPARTMENT OF LABOR

Employment and Training Administration

[TA-W-71,669]

Delphi Corporation, Electronic and Safety Division, Auburn Hills, MI; Notice of Termination of Investigation

Pursuant to Section 223 of the Trade Act of 1974, as amended, an investigation was initiated in response to a petition filed on July 14, 2009 on behalf of workers of Delphi Corporation, Electronics and Safety Division, Auburn Hills, Michigan.

The petition has been deemed invalid because the date of the petition precedes the filing date by more than 30 days. The petition is dated June 12, 2009 and was filed on July 14, 2009. In accordance with Federal Regulations at 29 CFR 90.2, the “date of the petition” means the date thereon, but which in no event shall be more than 30 days before the date of the filing. “Date of filing” means the date on which petitions and other documents are received by the Office of Trade Adjustment Assistance * * *” Consequently, the investigation has been terminated.

Signed at Washington, DC this 3rd day of August 2009.
Linda G. Poole,
Certifying Officer, Division of Trade Adjustment Assistance.

[FR Doc. E9-20470 Filed 8-25-09; 8:45 am]

BILLING CODE 4510-FN-P